NATIONAL AERONAUTICS AND SPACE ADMINISTRATION

[Notice (05-063)]

NASA Space Science Advisory Committee, Structure and Evolution of the Universe Subcommittee and Astronomical Search for Origins and Planetary Systems Subcommittee; Meeting

AGENCY: National Aeronautics and Space Administration (NASA).

ACTION: Notice of meeting.

SUMMARY: The National Aeronautics and Space Administration announces a forthcoming joint meeting of the NASA Space Science Advisory Committee (SScAC), Structure and Evolution of the Universe Subcommittee and Astronomical Search for Origins and Planetary Systems Subcommittee.

DATES: Monday April 11, 2005, 8:30 a.m. to 5:30 p.m., Tuesday, April 12, 2005, 8:30 a.m. to 5:30 p.m., and Wednesday, April 13, 2005, 8:30 a.m. to noon.

ADDRESSES: Inn and Conference Center, University of Maryland, 3501 University Boulevard East, Adelphi, Maryland 20783.

FOR FURTHER INFORMATION CONTACT: Dr. Michael Salamon, National Aeronautics and Space Administration, Washington, DC 20546, (202) 358-0441, Michael.h.salamon@nasa.gov.

SUPPLEMENTARY INFORMATION: The meeting will be open to the public up to the capacity of the room. The agenda for the meeting includes the following topic:

—Review of Universe Division Planning Document

Attendees will be requested to sign a visitor's register. It is imperative that the meeting be held on these dates to accommodate the scheduling priorities of the key participants.

Dated: March 24, 2005.
P. Diane Rausch,
Advisory Committee Management Officer, National Aeronautics and Space Administration.

[FR Doc. 05-6209 Filed 3-29-05; 8:45 am]

BILLING CODE 7510-13-P